DEPARTMENT OF EDUCATION

[CFDA NO. 84.334]

Office of Postsecondary Education; Notice Inviting Applications for New Awards for Fiscal Year 2001—Gaining Early Awareness and Readiness for Undergraduate Programs—GEAR UP

Purpose of Program: The purpose of this program is to increase the number of low-income students who are prepared to enter and succeed in college. Through improved academic preparation and early awareness activities, eligible students are provided comprehensive mentoring, counseling, outreach and supportive services, including information to students and their parents about the benefits of postsecondary education and the availability of Federal financial assistance to attend college. Through the scholarship component, which is mandatory for State grants and recommended for Partnership grants, eligible students may receive scholarships for higher education.

Eligible Applicants: 1. For Partnership grants, eligible applicants include at least—

• One institution of higher education. This may be any degree-granting two-year or four-year college or university;

• One local educational agency (school district) on behalf of one or more schools with a 7th grade and the high school(s) that the students at these middle schools would normally attend. Generally, at least 50 percent of the students attending the participating school with a 7th grade must be eligible for free or reduced-price lunches. However, as an alternative, Partnerships may choose to work with one or more grade levels of students, beginning not later than the 7th grade, who reside in public housing; and

• Two additional organizations, such as businesses, professional associations, community-based organizations, State Agencies, elementary schools, philanthropic organizations, religious groups, and other public or private organizations.

2. For State grants, eligible applicants are State Agencies as designated by the State's Governor, one per State.

Applications Available: January 19, 2001.

Deadline for Transmittal of Applications: March 30, 2001.

Deadline for Intergovernmental Review: May 29, 2001.

Available Funds: Approximately $35,500,000 for Partnership grants and $23,000,000 for State grants. Federal funds shall provide not more than 50 percent of the total cost of any project funded by a grant under this program, except as provided for under 34 CFR 694.7. The non-Federal share of project costs may be in-cash or in-kind, fairly valued, including services, supplies or equipment.

Estimated Average Awards: No minimum, maximum or average award has been established for Partnership grants. The size of each Partnership grant will depend on the number of students served. However, there is a maximum annual Federal contribution of $800 per student for Partnership grants.

State grants have a $2.5 million maximum and no minimum award.

Estimated Number of Awards: Approximately 9-12 State grant awards and approximately 75-90 Partnership grant awards, depending on the size and configuration of each Partnership.

Note: The Department is not bound by any estimates in this notice.

Project Period: Up to 60 months.

Applicable Regulations: (a) The Education Department General Administrative Regulations (EDGAR) in 34 CFR parts 74, 75, 77, 79, 80, 86, 97, 98 and 99. (b) The regulations for this program in 34 CFR part 694.

Authorized Activities: Section 404D, 404E, 404F, and 404G of the Higher Education Act of 1965, as amended. [20 U.S.C. 1070a-24]

Selection Criteria: The Secretary uses the selection criteria in accordance with 34 CFR 75.209 and 75.210 to evaluate applications for Gaining Early Awareness and Readiness for Undergraduate Programs. The application package includes the selection criteria and the points assigned to the criteria.

Page Limits: The application narrative (Part 4 of the application) is limited to the equivalent of no more than 40 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part 1, the cover sheet; Part 2, the Table of Contents; Part 3 the Abstract; or Part 5, the budget section, including the narrative budget justification; the assurances and certifications; or the resumes, the bibliography, or the letters of support. However, you must include all of the application narrative (Part 4) in the page limit. Reviewers will not read any pages of your application that exceed the page limit if you apply these standards or exceed the equivalent of the page limit.

Priorities

Competitive Priorities

Competitive Preference Priority 1

Under 34 CFR 75.105(c)(2)(i) and 34 CFR 694.15(b), the Secretary will give preference to Partnership projects that establish or maintain financial assistance programs that award scholarships to participating students, either in accordance with section 404E of the Higher Education Act of 1965, or in accordance with GEAR UP regulations 34 CFR 694.11. The Secretary will award up to five (5) points in addition to any points the applicant earns under the selection criteria, to applicants who meet this priority, depending on how well the application meets the priority.

Competitive Preference Priority 2

Under 34 CFR 75.105(c)(2)(ii) and 34 CFR 694.15(a), the Secretary gives competitive preference to an application for a Partnership or State grant that serves a substantial number or percentage of students who reside in or attend school in an Empowerment Zone, Supplemental Empowerment Zone, or Enterprise Community, under 34 CFR 75.105(2)(ii) and 34 CFR 694.15(a). This preference means that an applicant meeting this criterion would be placed above another application of comparable merit, and the preference will be used in the selection process as a tie-breaker.

For Applications Contact: Education Publications Center (EDPUBS), P.O. Box 1398, Jessup, Maryland 20794-1398. Telephone (toll free) 1-877-433-7827. Fax: (301) 470-1244. If you use a telecommunications device for the deaf (TDD) you may call toll free 1-877-576-7734. You may also contact EDPUBS at its web site: http://www.ed.gov/pubs/edpubs.html.

Or you may contact EDPUBS at its e-mail address: edpubs@inet.ed.gov.

If you request an application from EDPUBS, be sure to identify this competition as follows: CFDA number 84.334.

FOR FURTHER INFORMATION CONTACT: U.S. Department of Education, Office of Postsecondary Education, Gaining Early Awareness and Readiness for Undergraduate Programs, 1990 K Street, NW., Room 6252, Washington, DC 20006-8524, telephone 202-502-7676, fax (202) 502-7675, or e-mail gearup@ed.gov

If you use a telecommunications device for the deaf (TDD), you may call the Federal Information Relay Service (FIRS) at 1-800-877-8339.

Individuals with disabilities may obtain this document or a copy of the GEAR UP application package in an alternative format (e.g., Braille, large print, audiotape, or computer diskette) upon request to the contact number listed under FOR FURTHER INFORMATION CONTACT. However, the Department is not able to reproduce in an alternative format the standard forms included in the application package.

Electronic Access to This Document

You may view this document, as well as all other Department of Education documents published in the Federal Register in text or Adobe Portable Document Format (PDF) on the Internet at either of the following sites:

http://ocfo.ed.gov/fedreg.htm

http://www.ed.gov/new.html

To use PDF you must have Adobe Acrobat Reader, which is available free at either of the previous sites. If you have any questions about using PDF, call the U.S. Government Printing Office (GPO) at (202) 512-1530 or, toll free, at 1-888-293-6498.

Note: The official version of this document is the document published in the Federal Register. Free Internet access to the offical edition of the Federal Register and the Code of Federal Regulations is available on GPO Access at: http://www.access.gpo.gov/nara/index.html.

Program Authority: 20 U.S.C. 1070a-21—20 U.S.C. 1070a-28.

Dated: January 12, 2001.
A. Lee Fritschler,
Assistant Secretary, Office of Postsecondary Education.

[FR Doc. 01-1529 Filed 1-17-01; 8:45 am]

BILLING CODE 4000-01-P